NATIONAL SCIENCE FOUNDATION

Special Emphasis Panel in Biological Sciences: Notice of Meeting

In accordance with the Federal Advisory Committee Act (Pub. L. 92-463, as amended), the National Science Foundation announces the following meeting:

Name: Special Emphasis Panel in Biological Sciences (1754).

Date/Time: April 27, 2000, 8:00 a.m.-5:00 p.m. thru April 28, 2000, 8:00 a.m.-Adjourn.

Place: National Science Foundation, 4201 Wilson Boulevard, Room 320, Arlington, VA 2230.

Type of Meeting: Closed.

Contact Person: Dr. Scott Collins, Program Officer, National Science Foundation, 4201 Wilson Boulevard, Arlington, Virginia 22230, Telephone: (703) 306-1480.

Minutes: May be obtained from the contact person listed above.

Purpose of Meeting: To provide advice and recommendations concerning proposals to the National Science Foundation (NSF) for financial support.

Agenda: To review and evaluate proposals submitted in to the Long-Term Ecological Research program.

Reason for Closing: The proposals being reviewed include information of a proprietary or confidential nature, including technical information; financial data, such as salaries; and personal information concerning individuals associated with the proposals. These matters are exempt under 5 U.S.C. 552b(c), (4) and (6) of the Government in the Sunshine Act.

Dated: February 23, 2000.
Karen J. York,
Committee Management Officer.

[FR Doc. 00-4704 Filed 2-28-00; 8:45 am]

BILLING CODE 7555-01-M